DEPARTMENT OF DEFENSE

Office of the Secretary

[Transmittal Nos. 13-15]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-15 with attached transmittal and policy justification.

Dated: June 13, 2013.
Aaron Siegel,
Alternate OSD Federal Register Liaison Officer, Department of Defense.

Transmittal No. 13-15

Notice of Proposed Issuance of Letter of Offer Pursuant to Section 36(b)(1) of the Arms Export Control Act, as amended

(i) Prospective Purchaser: Libya

(ii) Total Estimated Value:

Major Defense Equipment* | $222 million
Other | $366 million
Total | $588 million

(iii) Description and Quantity or Quantities of Articles or Services under Consideration for Purchase: 2 C-130J-30 aircraft, 10 Rolls Royce AE 2100D3 engines (8 installed and 2 spares), aircraft modifications, Government Furnished Equipment (including radios), support and test equipment, publications and technical documentation, personnel training and training equipment, U.S. Government and contractor engineering, technical and logistics support services, and other related elements of logistical and program support.

(iv) Military Department: Air Force (SAF)

(v) Prior Related Cases, if any: None

(vi) Sales Commission, Fee, etc., Paid, Offered, or Agreed to be Paid:

(vii) Sensitivity of Technology Contained in the Defense Article or Defense Services Proposed to be Sold: None

(viii) Date Report Delivered to Congress: 7 June 2013

* As defined in Section 47(6) of the Arms Export Control Act.

POLICY JUSTIFICATION

Libya—C-130J-30 Aircraft

The Government of Libya has requested a sale of 2 C-130J-30 aircraft, 10 Rolls Royce AE 2100D3 engines (8 installed and 2 spares), aircraft modifications, Government Furnished Equipment (including radios), support and test equipment, publications and technical documentation, personnel training and training equipment, U.S. Government and contractor engineering, technical and logistics support services, and other related elements of logistical and program support. The estimated cost is $588 million.

This proposed sale will contribute to the foreign policy and national security of the United States by helping to improve the security of Libya. The Government of Libya uses airlift to maintain the connection between the central government and the country's outlying areas. The sale of these C-130Js to Libya will significantly increase its capability to provide in-country airlift support for its forces, thus strengthening its capacity in the security arena.

Libya intends to use these aircraft primarily to move supplies and people within Libya. This medium lift capability should assist with border security, the interdiction of known terrorist elements, and rapid reaction to internal security threats. In addition, Libya intends to utilize these aircraft in support of regional peacekeeping and humanitarian operations. Libya, which already operates a mix of legacy C-130s, will have little difficulty absorbing these aircraft, which include a three-year training and sustainment package.

The proposed sale of this equipment and support will not alter the basic military balance in the region.

The prime contractor will be Lockheed Martin-Aerospace in Marietta, Georgia. There are no known offset agreements in connection with this potential sale.

Implementation of this proposed sale will require the assignment of four contracted Field Service Representatives (FSR) and one Logistics Support Representative (LSR) for a period of three years. The FSRs and LSR will have expertise in airframe, avionics/electrical, propulsion systems, ground maintenance systems, and logistics support. Additionally, there will be a USAF logistics specialist assisting the purchaser to establish a supply system in support of flight operations, supply management, inventory control, and documentation procedures for a period of three years following aircraft delivery.

There will be no adverse impact on U.S. defense readiness as a result of this proposed sale.

[FR Doc. 2013-14480 Filed 6-17-13; 8:45 am]

BILLING CODE 5001-06-P